DEPARTMENT OF LABOR

Employment and Training Administration

[TA-W-62,214]

Ford Motor Company, Louisville Assembly Plant, Vehicle Operation Division, Including On-Site Leased Workers From Comprehensive Logistics, Inc. and Source Providers, Inc., Louisville, KY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 8, 2007, applicable to workers of Ford Motor Company, Louisville Assembly Plant, Vehicle Operation Division, Louisville, Kentucky. The notice was published in the Federal Register on November 21, 2007 (72 FR 65607).

At the request of the petitioner, the Department reviewed the certification for workers of the subject firm. The workers assemble Ford Explorers, Ford Explorer Sport Tracs and Mercury Mountaineers.

New information shows that leased workers from Comprehensive Logistics, Inc. and Source Providers, Inc. were employed on-site at the Louisville, Kentucky, location of Ford Motor Company, Louisville Assembly Plant, Vehicle Operation Division. The Department has determined that these workers were sufficiently under the control of the subject firm to be considered leased workers.

Based on these findings, the Department is amending this certification to include leased workers from Comprehensive Logistics, Inc. and Source Providers, Inc. working on-site at the Louisville, Kentucky, location of the subject firm.

The intent of the Department's certification is to include all workers employed at Ford Motor Company, Louisville Assembly Plant, Vehicle Operation Division who were adversely affected by increased imports of Ford Explorers, Ford Explorer Sport Tracs and Mercury Mountaineers.

The amended notice applicable to TA-W-62,214 is hereby issued as follows:

All workers of Ford Motor Company, Louisville Assembly Plant, Vehicle Operation Division, including on-site leased workers from Comprehensive Logistics, Inc. and Source Providers, Inc., Louisville, Kentucky, who became totally or partially separated from employment on or after September 24, 2006, through November 8, 2009, are eligible to apply for adjustment assistance under Section 223 of the Trade Act of 1974, and are also eligible to apply for alternative trade adjustment assistance under Section 246 of the Trade Act of 1974.

Signed at Washington, DC, this 31st day of July 2008.
Richard Church,
Certifying Officer, Division of Trade Adjustment Assistance.

[FR Doc. E8-18164 Filed 8-6-08; 8:45 am]

BILLING CODE 4510-FN-P